DEPARTMENT OF THE INTERIOR

Truckee River Operating Agreement, California and Nevada

[DES 04-44]

AGENCY: Department of the Interior.

ACTION: Notice of availability for a revised draft environmental impact statement/environmental impact report and notice of open house meetings and public hearings.

SUMMARY: Pursuant to the National Environmental Policy Act (NEPA) of 1969, as amended, and the California Environmental Quality Act (CEQA), the U.S. Department of the Interior (Interior) and California Department of Water Resources (DWR), as co-lead agencies, have jointly prepared a revised draft environmental impact statement/environmental impact report (revised Draft EIS/EIR) for the Draft Truckee River Operating Agreement (TROA) which would implement Section 205(a) of the Truckee-Carson-Pyramid Lake Water Rights Settlement Act of 1990, Title II of Public Law 101-618 (Settlement Act). The revised Draft EIS/EIR has evaluated the proposed action (TROA Alternative), Local Water Supply Alternative, and No Action Alternative. Implementation of the proposed action would not result in any significant environmental effects.

DATES: Written comments on the revised draft EIS/EIR should be submitted to the Bureau of Reclamation (Reclamation) at the address below no later than October 29, 2004.

See SUPPLEMENTARY INFORMATION section for dates for open house meetings and public hearings.

ADDRESSES: Written comments on the revised Draft EIS/EIR should be mailed to Kenneth Parr, Bureau of Reclamation, 705 North Plaza St., Rm. 320, Carson City, NV 89701. All comments sent to Reclamation will be compiled for consideration by the co-lead agencies.

A copy of the document may be obtained by writing to Reclamation at the above address or by calling Reclamation at 800-742-9474 (enter 26) or 775-882-3436 or DWR at 916-227-7606. The revised Draft EIS/EIR is accessible from the following Web site: http://www.usbr.gov/mp/troa/. See SUPPLEMENTARY INFORMATION section for where the revised Draft EIS/EIR is available for public review.

See Supplementary Information section for addresses of open house meetings and public hearings.

FOR FURTHER INFORMATION CONTACT: Kenneth Parr, Reclamation, telephone 775-882-3436, TDD 775-882-3436, fax 775-882-7592, e-mail: kparr@mp.usbr.gov; or Michael Cooney, DWR, telephone 916-227-7606, fax 916-227-7600, e-mail: mikec@water.ca.gov. Information is also available at the Bureau of Reclamation Web site at: http://www.usbr.gov/mp/troa/.

SUPPLEMENTARY INFORMATION:

Open House Meetings Dates and Locations

Open house meetings will be held to present information about the revised Draft EIS/EIR at the locations and times listed below:

Dates:

• Tuesday, September 21, 2004, 1-4 p.m., Fernley, NV.

• Tuesday, September 21, 2004, 7-10 p.m., Reno, NV.

• Wednesday, September 22, 2004, 7-10 p.m., Fallon, NV.

• Thursday, September 23, 2004, 1-4 p.m., Kings Beach, CA.

• Thursday, September 23, 2004, 7-10 p.m., Truckee, CA.

• Friday, October 1, 2004, 6-9 p.m., Nixon, NV.

Addresses:

• Fernley, NV—City of Fernley, Council Chambers, 595 Silver Lace Blvd.

• Reno, NV—Washoe County Department of Water Resources, 4930 Energy Way.

• Fallon, NV—Fallon Convention Center, 100 Campus Way.

• Kings Beach, CA—North Tahoe Conference Center, 8318 North Lake Blvd.

• Truckee, CA—Parks and Recreation Community Center, 10046 Church Street.

• Nixon, NV—Pyramid Lake Tribal Council Chambers, 210 Capitol Hill.

Public Hearings Dates and Locations

Formal public hearings on the environmental document are scheduled for the locations and dates listed below.

Dates:

• Monday, October 18, 2004, 7-10 p.m., Reno, NV.

• Tuesday, October 19, 2004, 1-4 p.m., Fernley, NV.

• Tuesday, October 19, 2004, 6-9 p.m., Nixon NV.

• Wednesday, October 20, 2004, 1-4 p.m., Kings Beach, CA.

• Wednesday, October 20, 2004, 7-10 p.m., Truckee, CA.

• Thursday, October 21, 2004, 7-10 p.m., Fallon, NV.

Addresses:

• Reno, NV—Washoe County Dept. of Water Resources, 4930 Energy Way.

• Fernley, NV—City of Fernley, Council Chambers, 595 Silver Lace Blvd.

• Nixon, NV—Pyramid Lake Tribal Council Chambers, 210 Capitol Hill.

• Kings Beach, CA—North Tahoe Conference Center, 8318 North Lake Blvd.

• Truckee, CA—Parks and Recreation Community Center, 10046 Church St.

• Fallon, NV—Fallon Convention Center, 100 Campus Way.

Organizations and individuals may present oral or written comments at the public hearings by signing up when arriving at the hearing.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Copies of the Revised Draft EIS/ are Available for Public Review at:

• California Department of Water Resources, Central District, 3251 S Street, Sacramento, CA 95816.

• Bureau of Reclamation, Public Affairs Office, 2800 Cottage Way, Sacramento, CA 95825.

• Bureau of Reclamation, 705 North Plaza Street, Carson City, NV 89701.

• Fish and Wildlife Service, 1340 Financial Blvd, Rm. 234, Reno, NV 89502.

• Natural Resources Library, U.S. Department of the Interior, 1849 C Street NW., Main Interior Building, Washington, DC 20240-0001.

• At various county libraries; please call 800-742-9474 (enter 26) for specific locations.

TROA Background:

Section 205(a) of the Settlement Act directs the Secretary of the Interior (Secretary), in conjunction with others, to negotiate an operating agreement governing operation of Federal Truckee River reservoirs and other specified matters. Interior, U.S. Department of Justice, States of California and Nevada, Pyramid Lake Paiute Tribe, Sierra Pacific Power Company, Truckee Meadows Water Authority, and other entities in California and Nevada completed a draft agreement (i.e., Draft TROA) in October 2003. Draft TROA is available as an appendix to the revised Draft EIS/EIR or viewed at http://www.usbr.gov/mp/troa/docs/TROAdraft.pdf.

TROA would, in part, (1) Enhance conditions for the threatened Lahontan cutthroat trout and endangered cui-ui in the Truckee River basin; (2) increase municipal and industrial (M&I) drought protection for Truckee Meadows (Reno-Sparks metropolitan area); (3) improve Truckee River water quality downstream from Sparks, Nevada; and (4) enhance streamflows and recreational opportunities in the Truckee River basin. At the time TROA takes effect, the Settlement Act provides that a permanent allocation between California and Nevada of water in the Lake Tahoe, Truckee River and Carson River basins will also take effect. Allocation of those waters has been a long-standing issue between the two States; implementation of TROA resolves that issue. In addition, Section 205 of the Settlement Act requires that TROA, among other things, implement the provisions of the Preliminary Settlement Agreement as modified by the Ratification Agreement (PSA) and ensure that water is stored and released from Federal Truckee River reservoirs to satisfy the exercise of water rights in conformance with the Orr Ditch decree and Truckee River General Electric decree. PSA is a 1989 agreement between Sierra Pacific Power Company and the Pyramid Lake Paiute Tribe to change the operation of Federal reservoirs and Sierra Pacific's exercise of its Truckee River water rights to (1) Improve spawning conditions for threatened and endangered fish species (cui-ui and Lahontan cutthroat trout) and (2) provide additional M&I water for Truckee Meadows during drought situations.

Before TROA can be approved by the Secretary and the State of California, potential environmental effects of the agreement must be analyzed pursuant to NEPA and CEQA. Accordingly, Interior and DWR have jointly prepared this revised Draft EIS/EIR for that purpose. A Draft EIS/EIR based on an earlier draft agreement was initially prepared and released for public review in February 1998. Since then, ongoing negotiations have substantially modified the proposed agreement, resulting in the need to prepare a revised Draft EIS/EIR.

Current Activities

Following the public release of Draft TROA in October 2003 by the negotiators, a revised Draft EIS/EIR was completed. The revised Draft EIS/EIR considers current conditions as well as three alternatives: (1) No Action Alternative (current management in the future, without TROA); (2) Local Water Supply Alternative (current management in the future with modified water sources, without TROA); and (3) TROA (changed management in the future). Section 205 of the Settlement Act also requires that TROA, once approved, be issued as a Federal Regulation. A draft regulation is being prepared for publication in the Federal Register at a later date to solicit public comment. Comments on the revised Draft EIS/EIR will be addressed in the final environmental analysis of TROA, together with any changes thereto, and a Final EIS/EIR will be published. Comments received on provisions of Draft TROA will be forwarded to the negotiators. The Secretary cannot sign TROA until a Record of Decision has been completed. The State of California cannot sign TROA until it has considered and certified a Final EIS/EIR in conjunction with making any necessary findings pursuant to CEQA. These and other steps, including approval by the Orr Ditch and Truckee River General Electric Courts, must be completed before TROA may be implemented.

Description of Alternatives

No Action Alternative (No Action):

Under No Action, Truckee River reservoir operations would remain unchanged from current operations and would be consistent with existing court decrees, agreements, and regulations that currently govern surface water management (i.e., operating reservoirs in the Truckee River and Lake Tahoe basins and maintaining stream flows) in the Truckee River basin. Truckee Meadows Water Authority's (TMWA) existing programs for surface water rights acquisition and groundwater pumping for M&I use would continue. Groundwater pumping and water conservation in Truckee Meadows, however, would satisfy a greater proportion of projected future M&I demand than under current conditions. Groundwater pumping in California would also increase to satisfy a greater projected future M&I demand.

Local Water Supply Alternative (LWSA):

All elements of Truckee River reservoir operations, river flow management, Truckee River hydroelectric plant operations, minimum reservoir releases, reservoir spill and precautionary release criteria, and water exportation from the upper Truckee River basin and Lake Tahoe basin under LWSA would be the same as described under No Action. The principal differences between No Action and LWSA would be the source of water used for M&I purposes, extent of water conservation, implementation of a groundwater recharge program in Truckee Meadows, and assumptions regarding governmental decisions concerning approval of new water supply proposals.

TROA Alternative (TROA):

TROA would modify existing operations of all designated reservoirs to enhance coordination and flexibility while ensuring that existing water rights are served and flood control and dam safety requirements are met. TROA would incorporate, modify, or replace various provisions of the Truckee River Agreement (TRA) and the Tahoe-Prosser Exchange Agreement (TPEA). As proposed by the U.S., TROA would supersede all requirements of any agreements concerning the operation of all reservoirs, including those of TRA and TPEA, and would become the sole operating agreement for all designated reservoirs.

All reservoirs would continue to be operated under TROA for the same purposes as under current operations and with most of the same reservoir storage priorities as under No Action and LWSA. The Settlement Act requires that TROA ensure that water is stored and released from Truckee River reservoirs to satisfy the exercise of water rights in conformance with the Orr Ditch decree and Truckee General Electric decree, except for those rights that are voluntarily relinquished by the parties to the PSA, or by any other persons or entities, or which are transferred pursuant to State law.

The primary difference between TROA and the other alternatives is that TROA would provide opportunities for storing and managing various categories of credit water, not provided for in the current operation of the system. Signatories to TROA generally would be allowed to accumulate credit water in storage by retaining or capturing water in a reservoir that would have otherwise been released from storage or passed through the reservoir to serve a downstream water right (e.g., retaining Floriston Rate water that would have been released to serve an Orr Ditch decree water right). In cases with a change in the place or type of use, such storage could take place only after a transfer in accordance with applicable state water law. Once accumulated, credit water would be classified by category with a record kept of its storage, exchange, and release. Credit water generally would be retained in storage or exchanged among the reservoirs until needed and released to satisfy its beneficial use. The Interim Storage Agreement (negotiated in accordance with Section 205(b)(3) of the Settlement Act) would no longer be necessary and so would be superseded by new storage agreements between the Bureau of Reclamation and TROA signatories.

In addition to credit water, TROA also establishes criteria for new wells in the Truckee River in California to minimize short-term reduction in stream flow, provides for the implementation of the interstate allocation between California and Nevada, provides for the settlement of litigation, establishes a habitat restoration fund for the Truckee River, and establishes more strict conditions and approval requirements for pumping or siphoning water from Lake Tahoe, among other benefits.

Dated: August 18, 2004.
Willie R. Taylor,
Director, Office of Environmental Policy and Compliance.

[FR Doc. 04-19417 Filed 8-24-04; 8:45 am]

BILLING CODE 4310-MN-P